DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forests' Lincoln County Resource Advisory Committee will meet on January 12, 2004, at 6:30 p.m. in Libby, Montana for a business meeting. The meeting is open to the public.

DATES: January 12, 2004.

ADDRESSES: The meeting will be held at the Forest Supervisor's Office, 1101 US Highway 2 West, Libby.

FOR FURTHER INFORMATION CONTACT: Barbara Edgmon, Committee Coordinator, Kootenai National Forest at (406) 293-6211, or e-mail bedgmon@fs.fed.us.

SUPPLEMENTARY INFORMATION: Agenda topics include discussion on field trips for 2004, revision of the project proposal form and develop a priority list of types of projects to be considered for funding. If the meeting date or location is changed, notice will be posted in the local newspapers, including the Daily Interlake based in Kalispell, Montana.

Dated: December 29, 2003.
Bob Castaneda,
Forest Supervisor.

[FR Doc. 04-185 Filed 1-5-04; 8:45 am]

BILLING CODE 3410-11-M